FEDERAL EMERGENCY MANAGEMENT AGENCY

44 CFR Part 65

[Docket No. FEMA-B-7429]

Changes in Flood Elevation Determinations

AGENCY: Federal Emergency Management Agency (FEMA).

ACTION: Interim rule.

SUMMARY: This interim rule lists communities where modification of the Base (1-percent-annual-chance) Flood Elevations is appropriate because of new scientific or technical data. New flood insurance premium rates will be calculated from the modified Base Flood Elevations for new buildings and their contents.

DATES: These modified Base Flood Elevations are currently in effect on the dates listed in the table below and revise the Flood Insurance Rate Maps in effect prior to this determination for each listed community.

From the date of the second publication of these changes in a newspaper of local circulation, any person has ninety (90) days in which to request through the community that the Director, Federal Insurance and Mitigation Administration, reconsider the changes. The modified elevations may be changed during the 90-day period.

ADDRESSES: The modified Base Flood Elevations for each community are available for inspection at the office of the Chief Executive Officer of each community. The respective addresses are listed in the table below.

FOR FURTHER INFORMATION CONTACT: Matthew B. Miller, P.E., Chief, Hazards Study Branch, Federal Insurance and Mitigation Administration, 500 C Street SW., Washington, DC 20472, (202) 646-3461, or (e-mail) matt.miller@fema.gov.

SUPPLEMENTARY INFORMATION: The modified Base Flood Elevations are not listed for each community in this interim rule. However, the address of the Chief Executive Officer of the community where the modified Base Flood Elevation determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in Base Flood Elevations are in accordance with 44 CFR 65.4.

National Environmental Policy Act. This rule is categorically excluded from the requirements of 44 CFR Part 10, Environmental Consideration. No environmental impact assessment has been prepared.

Regulatory Flexibility Act. The Administrator, Federal Insurance and Mitigation Administration certifies that this rule is exempt from the requirements of the Regulatory Flexibility Act because modified Base Flood Elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Cochise | Cochise County (01-09-019P) | April 25, 2001; May 2, 2001; Arizona Range News | The Honorable Mike Palmer, Chairman, Cochise County, Board of Supervisors, 1415 West Melody Lane, Bisbee, Arizona 85603 | July 31, 2001 | 040012
Cochise | City of Sierra Vista (01-09-019P) | April 25, 2001; May 2, 2001; Arizona Range News | The Honorable Tom Hessler, Mayor, City of Sierra Vista, 1011 North Coronda Drive, Sierra Vista, Arizona 85635 | July 31, 2001 | 040017
Cochise | City of Sierra Vista (01-09-492P) | April 18, 2002; April 25, 2002; Sierra Vista Herald | The Honorable Thomas J. Hessler, Mayor, City of Sierra Vista, 1011 North Coronado Drive, Sierra Vista, Arizona 85635 | August 1, 2002 | 040017
Maricopa | City of Mesa (02-09-260P) | June 13, 2002; June 20, 2002; Arizona Business Gazette | The Honorable Keno Hawker, Mayor, City of Mesa, P.O. Box 1466, Mesa, Arizona 85221-1466 | September 19, 2002 | 040048
Maricopa | City of Scottsdale (02-09-1084X) | July 18, 2002; July 25, 2002; Arizona Republic | The Honorable Mary Manross, Mayor, City of Scottsdale, 3939 North Drinkwater Boulevard, Scottsdale, Arizona 85251 | October 24, 2002 | 045012
Pima | Unincorporated Areas (01-09-685P), (02-09-746X) | April 18, 2002; April 25, 2002; Tucson Citizen | The Honorable Raul Grijalva, Chairman, Pima County, Board of Supervisors, 130 West Congress, 11th Floor, Tucson, Arizona 85701 | July 25, 2002 | 040073
Pinal | Town of Kearney (01-09-283P) | June 5, 2002; June 12, 2002; Copper Basin News | The Honorable Debra Sommers, Mayor, Town of Kearny, P.O. Box 639, Kearny, Arizona 85237 | September 11, 2002 | 040085
Pinal | Unincorporated Areas (01-09-283P) | June 5, 2002; June 12, 2002; Copper Basin News | The Honorable Jimmie B. Kerr, Chairman, Pinal County, Board of Supervisors, P.O. Box 827, Florence, Arizona 85232-0827 | September 11, 2002 | 040077
California:
Kern | Unincorporated Areas (01-09-764P) | May 22, 2002; May 29, 2002; News Review | The Honorable Steve Perez, Chairman, Kern County, Board of Supervisors, 1115 Truxton Avenue, Fifth Floor, Bakersfield, California 93301 | August 28, 2002 | 060075
Los Angeles | Unincorporated Areas (01-09-559P) | July 18, 2002; July 25, 2002; Los Angeles Times | The Honorable Zev Yaroslavsky, Chairperson, Los Angeles County, Board of Supervisors, 821 Kenneth Haln Hall of Administration, 500 West Temple Street, Los Angeles, California 90012 | October 24, 2002 | 065043
Orange | City of Orange (01-09-975P) | June 6, 2002; June 13, 2002; Orange County Register | The Honorable Mark Murphy, Mayor, City of Orange, 300 East Chapman Avenue, Orange, California 92866 | September 12, 2002 | 060228
Placer | Town of Loomis (02-09-862P) | June 20, 2002; June 27, 2002; Loomis News | The Honorable Rhonda Morillas, Mayor, Town of Loomis, Town Hall, 6140 Horseshoe Bar Road, Suite K, Loomis, California 95650 | September 26, 2002 | 060721
Riverside | City of Murrieta (01-09-849P) | April 4, 2002; April 11, 2002; Press-Enterprise | The Honorable Dick Ostling, Mayor, City of Murrieta, 26442 Beckman Court, Murrieta, California 92562 | March 18, 2002 | 060751
Riverside | City of Perris (01-09-524P) | April 25, 2002; May 2, 2002; Press-Enterprise | The Honorable Daryl Busch, Mayor, City of Perris, 101 North D Street, Perris, California 92570 | April 1, 2002 | 060258
Riverside | Unincorporated Areas (01-09-849P) | April 4, 2002; April 11, 2002; Press-Enterprise | The Honorable Jim Venable, Chairman, Riverside County, Board of Supervisors, 4080 Lemon Street, 14th Floor, Riverside, California 92501 | March 18, 2002 | 060245
San Diego | City of Carlsbad (02-09-594P) | May 23, 2002; May 30, 2002; North County Times | The Honorable Claude A. Lewis, Mayor, City of Carlsbad, 1200 Carlsbad Village Drive, Carlsbad, California 92008 | August 29, 2002 | 060285
Santa Clara | City of San Jose (01-09-488P), (02-09-798X) | April 25, 2002; May 2, 2002; San Jose Mercury News | The Honorable Ron Gonzales, Mayor, City of San Jose, 801 North First Street, Room 600, San Jose, California 95110 | August 1, 2002 | 060349
Santa Clara | Unincorporated Areas (01-09-488P), (02-09-798X) | April 25, 2002; May 2, 2002; San Jose Mercury News | The Honorable Donald P. Gage, Chairman, Santa Clara County, Board of Supervisors, East Wing, 10th Floor, 70 West Hedding Street, San Jose, California 95110 | August 1, 2002 | 060337
Colorado:
Arapahoe | City of Cherry Hills Village (02-08-052P) | May 2, 2002; May 9, 2002; Denver Post | The Honorable John Welborn, Mayor, City of Cherry Hills Village, 2450 East Quincy Avenue, Cherry Hills Village, Colorado 80110 | April 12, 2002 | 080013
Boulder | City of Lafayette (02-08-331P) | May 20, 2002; May 24, 2002; Daily Camera | The Honorable Dale Avery, Mayor, City of Lafayette, 1290 South Public Road, Lafayette, Colorado 80026 | August 23, 2002 | 080026
Boulder | City of Longmont (02-08-082P) | April 4, 2002; April 11, 2002; Daily Times Call | The Honorable Julia Pirnack, Mayor, City of Longmont, 350 Kimbark Street, Longmont, Colorado 80501 | March 25, 2002 | 080027
Boulder | Unincorporated Areas (02-08-082P) | April 4, 2002; April 11, 2002; Daily Camera | The Honorable Jana L. Mendez, Chairperson, Boulder County, Board of Commissioners, P.O. Box 471, Boulder, Colorado 80306-0471 | March 25, 2002 | 080023
Hawaii: Hawaii | Hawaii County (02-09-633P) | May 23, 2002; May 30, 2002; Hawaii Tribune Herald | The Honorable Harry Kim, Mayor, Hawaii County, 25 Aupuni Street, Hilo, Hawaii 96720 | May 3, 2002 | 155166
Idaho:
Bonner | City of Clark Fork (01-10-475P) | May 30, 2002; June 6, 2002; Bonner County Daily Bee | The Honorable Tom Shields, Mayor, City of Clark Fork, P.O. Box 10, Clark Ford, Idaho 83811 | September 5, 2002 | 160132
Bonner | Unincorporated Areas (01-10-457P) | May 30, 2002; June 6, 2002; Bonner County Daily Bee | The Honorable Tom Suttmeier, Chairman, Bonner County, Board of Commissioners, 215 South First Avenue, Sandpoint, Idaho 83864 | September 5, 2002 | 160206
North Dakota: Stark | City of Dickinson (02-08-057P) | May 9, 2002; May 16, 2002; Dickinson Press | The Honorable Dennis W. Johnson, Mayor, City of Dickinson, 99 Second Street East, Dickinson, North Dakota 58601 | August 15, 2002 | 380117
Utah: Salt Lake | City of Draper (02-08-198P) | June 26, 2002; July 3, 2002; Salt Lake Tribune | The Honorable Darrell H. Smith, Mayor, City of Draper, 12441 South 900 East, Draper, Utah 84020 | October 2, 2002 | 490244
Wyoming: Teton | Unincorporated Areas (02-08-268P) | July 17, 2002; July 24, 2002; Jackson Hole News | The Honorable Bill Paddleford, Chairperson, Teton County, Board of Commissioners, County Courthouse, P.O. Box 3594, Jackson, Wyoming 83001 | July 8, 2002 | 560094

(Catalog of Federal Domestic Assistance No. 83.100, “Flood Insurance.”)

Dated: August 9, 2002.
Anthony S. Lowe,
Administrator, Federal Insurance and Mitigation Administration.

[FR Doc. 02-20962 Filed 8-16-02; 8:45 am]

BILLING CODE 6718-04-P